DEPARTMENT OF AGRICULTURE

Farm Service Agency

Request for Extension of a Currently Approved Information Collection; End-Use Certificate Program

AGENCY: Farm Service Agency, USDA.

ACTION: Notice and request for comments.

SUMMARY: In accordance with the Paperwork Reduction Act of 1995, the Farm Service Agency (FSA) is seeking comments from all interested individuals and organizations on the extension of information collection currently used in support of the End-Use Certificate Program.

DATES: Comments on this notice must be received on or before May 9, 2006 to be assured consideration. Comments received after that date will be considered to the extent practicable.

FOR FURTHER INFORMATION CONTACT: Sharon Miner, USDA, Farm Service Agency, Warehouse and Inventory Division, Program Development Branch, 1400 Independence Avenue, SW., STOP 0553, Washington, DC 20250-0553; Telephone (202) 720-6266; Electronic mail: Sharon.Miner@wdc.usda.gov.

SUPPLEMENTARY INFORMATION: Title: End-Use Certificate Program.

OMB Control Number: 0560-0151.

Expiration Date of Approval: November 30, 2006.

Type of Request: Extension of currently approved information collection.

Abstract: The information collected under OMB Control Number 0560-0151, ensures that Canadian wheat does not benefit from USDA or Commodity Credit Corporation assisted export programs. To comply with the provisions of the North American Free Trade Agreement Implementation Act, FSA requires information from the importers, subsequent buyers, and end-users that assists in tracking the Canadian wheat within the U.S. marketing system.

Estimate of Burden: Public reporting burden for this information collection is estimated to average 0.215 hours per response.

Respondents: Wheat importers, traders, and end-users.

Estimated Number of Respondents: 421.

Estimated Number of Responses per Respondent: 128.

Estimated Total Annual Burden on Respondents: 4,520 hours.

Comment is invited on: (a) Whether the continued collection of information is necessary for the proper performance of the functions of the agency, including whether the information will have practical utility; (b) the accuracy of the FSA's estimate of burden including validity of the methodology and assumptions used; (c) enhancing the quality, utility, and clarity of the information collected; or (d) minimizing the burden of the collection of the information on those who are to respond, including the use of appropriate automated, electronic, mechanical, or other technological collection techniques or other forms of information technology. Comments should be sent to the Desk Officer for Agriculture, Office of Information and Regulatory Affairs, Office of Management and Budget, Washington, DC 20503, and to Sharon Miner at the address listed above. All comments received in response to this notice, including names and addresses when provided, will become a matter of public records. Comments will be summarized and included in the submission for Office of Management and Budget approval.

Signed in Washington, DC, on March 2, 2006.
Teresa C. Lasseter,
Administrator, Farm Service Agency.

[FR Doc. E6-3406 Filed 3-9-06; 8:45 am]

BILLING CODE 3410-05-P